POSTAL SERVICE

Board of Governors; Sunshine Act Meeting

DATES AND TIMES: Wednesday, June 16, 2021, at 9:00 a.m.

PLACE: Washington, DC, at U.S. Postal Service Headquarters, 475 L'Enfant Plaza SW, in the Benjamin Franklin Room.

STATUS: Wednesday, June 16, 2021, at 9:00 a.m.

MATTERS TO BE CONSIDERED:

Wednesday, June 16, 2021, at 9:00 a.m. (Closed)

1. Strategic Issues.

2. Financial and Operational Matters.

3. Compensation and Personnel Matters.

4. Administrative Items.

CONTACT PERSON FOR MORE INFORMATION: Michael J. Elston, Secretary of the Board, U.S. Postal Service, 475 L'Enfant Plaza SW, Washington, DC 20260-1000. Telephone: (202) 268-4800.

Katherine Sigler,
Assistant Secretary.

[FR Doc. 2021-12281 Filed 6-8-21; 11:15 am]

BILLING CODE 7710-12-P